DEPARTMENT OF TRANSPORTATION

Federal Aviation Administration

Approval of Noise Compatibility Program for Guam International Airport, Guam

AGENCY: Federal Aviation Administration, DOT.

ACTION: Notice.

SUMMARY: The Federal Aviation Administration (FAA) announces its findings on the noise compatibility program submitted by A.B. Won Pat Guam International Airport Authority under the provisions of Title I of the Aviation Safety and Noise Abatement Act, as amended (Public Law 96-193) (hereinafter referred to as “the Act”), and 14 CFR part 150. These findings are made in recognition of the description of Federal and non-Federal responsibilities in Senate Report No. 96-52 (1980). On May 19, 2003, the FAA determined that the noise exposure maps submitted by A.B. Won Pat Guam International Airport Authority under part 150 were in compliance with applicable requirements. On November 14, 2003, the FAA approved the Noise Compatibility Program for Guam International Airport.

EFFECTIVE DATE: The effective date of the FAA's approval of the Noise Compatibility Program for Guam International Airport is November 14, 2003.

FOR FURTHER INFORMATION CONTACT: Gordon Wong, Western-Pacific Region, Honolulu Airports District Office, Federal Aviation Administration, Box 50244, Honolulu, Hawaii 96850-0001, Telephone: (808) 541-1232, Street Address: 300 Ala Moana Boulevard, Honolulu, Hawaii 96813. Documents reflecting this FAA action may be reviewed at this same location.

SUPPLEMENTARY INFORMATION: This notice announces that the FAA has given its overall approval to the noise compatibility program for Guam International Airport, effective November 14, 2003. Under section 104(a) of the Aviation Safety and Noise Abatement Act of 1979, as amended (herein after referred to as the “Act”) [recodified as 49 USC 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

a. The Noise Compatibility Program was developed in accordance with the provisions and procedures of FAR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Airports District Office in Honolulu, Hawaii.

A.B. Won Pat Guam International Airport Authority submitted to the FAA on March 17, 2003, the noise exposure maps, descriptions, and other documentation produced during the noise compatibility planning study conducted from May 19, 2000, through March 17, 2003. The Guam International Airport noise exposure maps were determined by FAA to be in compliance with applicable requirements on May 19, 2003. Notice of this determination was published in the Federal Register on June 4, 2003.

The Guam International Airport study contains a proposed noise compatibility program comprised of actions designed for phased implementation by airport management and adjacent jurisdictions from (March 17, 2003, to beyond the year 2008). It was requested that the FAA evaluate and approve this material as a Noise Compatibility Program as described in 49 USC 47504 (formerly section 104(b) of the Act). The FAA began its review of the program on May 19, 2003 and was required by a provision of the Act to approve or disapprove the program within 180 days (other than the use of new or modified flight procedures for noise control). Failure to approve or disapprove such program within the 180-day period shall be deemed to be an approval of such program.

The submitted program contained twenty-eight (28) proposed actions for noise mitigation on and off the airport. The FAA completed its review and determined that the procedural and substantive requirements of the Act and FAR Part 150 have been satisfied. The overall program was approved, by the Assistant Administrator for Airports, effective November 14, 2003.

Outright approval was granted for twelve (12) of the twenty-eight (28) specific program measures. Fourteen (14) measures were disapproved for the purposes of part 150, and two (2) measures required no action. The approved measured included such items as: Amending the land use plans in-line with A.B. Won Pat Guam International Airport Authority noise compatibility guidelines; Zone lands near the airport for compatible uses consistent with the Airport Master Plan; Local government adopt and enforce ordinances and controls to regulate building construction methods and material for the purpose of attenuating aircraft noise in habitable buildings in and around the Airport Noise Zone; Establish a Public Information Program; Require the disclosure of aircraft noise levels by property owners and their agents; Establish a professional staff responsible for noise compatibility and abatement measures; Establish a community Noise Advisory Committee that meet regularly to address noise concerns; Install Noise Monitoring Equipment; Install Flight Track Systems that correlates data with FAA ARTS radar data; Acquire developed non-compatible property with the 65 DNL contour; Offer howeowners a Property Purchase Guarantee to assure that their property would be acquired at fair market value and returned use with appropriate sound insulation measures, releases, and restrictions if the owner had made a “bona fide effort” to sell the property within the 65 DNL contour based on the 2003 NEM; Acoustical treatment of residential, schools and other public buildings within the 65 DNL contour.

The following measures were disapproved pending submission of additional information: Establishment of new flight tracks or modifying existing flight tracks to concentrate aircraft overflights over areas with relatively few noise sensitive land uses; Establishing procedures that would require aircraft to follow a Standard Instrument Departure (SID) in all weather conditions, including Visual Flight Rules (VFR) conditions. SID's normally include departure headings and altitudes to be followed; Voluntary procedure that arriving aircraft delay lowering flaps and landing gear until closer to the airport; Air Traffic restrict the use of visual approaches during VFR conditions; Use of sophisticated on-board equipment that integrates signals from a variety of ground based and satellite systems to provide a visual course reference (vertical and horizontal information) for pilots to navigate along predetermined flight track; Displace Runway 6L; Construct acounstical barriers; such as noise walls, earth berms, or vegetative barriers to help attenuate noise caused by Airport operations; Construct high-speed exist taxiways at strategic locations along the runway to decrease the need for reverse thrust to slow arriving aircraft, and/or eliminate the need to add power to exit a runway via perpendicular taxiways; Implement a differential airport user fees based on aircraft noise levels and/or time of day of operation; Establish an agreement whereby the airport users voluntarily establish goals and a timetable/schedule for increasing the percentage of quieter aircraft in the airport fleet mix; Restrict aicraft engine run-ups to certain hours, location of engine run-up, minimizing or prohibiting nightime run-ups, restricting engine power settings to specific levels, and/or reducing the length of run-up times at various levels; Acquisition of fee-simple privately owned, private land to prevent non-compatible land use; Require the dedication of avigation easements as a condition of building permits in affected areas; Acquisition of fee-simple privately owned, private non-compatible land use; Require the dedication of avigation easements as a condition of building permits in affected areas; Acquisition of fee-simple privately owned, private land to prevent non-compatible land use. The following measure was disapproved: Modify the building code to require specified interior noise reduction for new construction in the Airport Noise Zones; Dedication of avigation easements as a condition of building permits in affected areas.

The following two measures required no action: Use of Close-in Noise Abatement Department Procedures where departing aircraft climb under takeoff power to an altitude of at least 800 feet Above Ground Level (AGL). Use of Distant Noise Abatement Departure Procedure where departing aircraft climb to at least 800 feet AGL, the pitch of the aircraft is then decreased and the aircraft accelerates to a speed adequate to maintain flight with zero flaps (nominally 210 knots). Flaps are then retracted and thrust reduced to a level not less than necessary to maintain required climb. Upon reaching 3,000 feet AGL (or the coastline is cleared), the aircraft resumes normal climb.

These determinations are set forth in detail in the Record of Approval signed by the Associate Administrator for Airports on November 14, 2003. The Record of Approval, as well as other evaluation materials and the documents comprising the submittal, are available for review at the FAA office listed above and at the administrative offices of the A.B. Won Pat Guam International Airport Authority. The Record of Approval also will be available on-line at http://www.faa.gov/arp/environmental/14cfr150/index14.cfrm.

Issued in Hawthorne, California on December 19, 2003.
Mia Paredes Ratcliff,
Acting Manager, Airports Division, Western-Pacific Region, AWP-600.

[FR Doc. 04-495 Filed 1-9-04; 8:45 am]

BILLING CODE 4910-13-M